DEPARTMENT OF HOMELAND SECURITY

Federal Emergency Management Agency

44 CFR Ch. I

[Docket ID FEMA-2023-0026]

RIN 1660-AB12

FEMA Proposed Policy: Federal Flood Risk Management Standard (FFRMS)

AGENCY: Federal Emergency Management Agency, DHS.

ACTION: Request for comments.

SUMMARY: The Federal Emergency Management Agency (FEMA) is accepting comments on the proposed FEMA policy, Federal Flood Risk Management Standard (FFRMS). This proposed policy would provide detail, consistent with applicable regulations, on applicability, processes, resources, and responsibilities for implementing the FFRMS as part of FEMA's 8-step decision making process for carrying out the directives of Executive Order 11988, Floodplain Management, as amended.

DATES: Comments must be received by December 1, 2023.

ADDRESSES: You may submit comments, identified by Docket ID: FEMA-2023-0026, via the Federal eRulemaking Portal: http://www.regulations.gov. Follow the instructions for submitting comments.

FOR FURTHER INFORMATION CONTACT: Portia Ross, Policy and Integration Division Director, Office of Environmental Planning and Historic Preservation, Resilience, DHS/FEMA, 400 C St. SW, Suite 313, Washington, DC 20472-3020. Phone: (202) 709-0677; Email: fema-regulations@fema.dhs.gov.

SUPPLEMENTARY INFORMATION: FEMA is proposing to issue a policy complementary to 44 CFR part 9, Floodplain Management and Protection of Wetlands, which governs FEMA's implementation the Federal Flood Risk Management Standard (FFRMS). This policy would facilitate implementation of FFRMS and bolster the resilience of communities and Federal assets against the impacts of flooding.

Consistent with a proposed rule that is published elsewhere in this issue of the Federal Register, this proposed policy would require that FEMA determine the appropriate vertical flood elevation and corresponding horizontal FFRMS floodplain for Actions Subject to the FFRMS using either the Climate Informed Science Approach (CISA), the Freeboard Value Approach (FVA), or the 0.2 Percent Annual Chance Flood Approach (0.2PFA). Under the proposed policy, FEMA would determine the FFRMS flood elevation and corresponding FFRMS floodplain according to CISA for all locations where CISA is available where the best-available, actionable hydrologic and hydraulic data and methods that integrate current and future changes in flooding based on climate science exist. When using CISA, for non-critical actions the FFRMS floodplain would be at least as restrictive as the 1% annual chance (AC) flood elevation and corresponding horizontal floodplain, and for critical actions the FFRMS floodplain would be at least as restrictive as the 0.2% AC flood elevation and corresponding horizontal floodplain. For locations where CISA is not available and actionable, FEMA would determine the FFRMS elevation and FFRMS floodplain for non-critical actions by using the area that would be inundated by the lower of the 0.2% AC flood or +2-foot FVA. For critical actions, FEMA would determine the FFRMS elevation and FFRMS floodplain using the area that would be inundated by the higher of the 0.2% AC flood or +3-foot FVA. (For locations where information about the elevation and/or extent of the 0.2% AC floodplain is not available, the FFRMS floodplain would be the +3-foot FVA for critical actions and +2-foot FVA for non-critical actions).

This policy would also outline FEMA's process to identify actions that may receive substantial damage or substantial improvement determinations, require consideration of natural features and nature-based approaches as alternatives to a proposed action, explain requirements to minimize flood risk, and encourage early coordination when multiple Federal agencies are jointly engaged in an action to ensure a consistent approach to determine which floodplain determination is applied.

Authority: Executive Order 11988, Floodplain Management, as amended and implementing regulations of 44 CFR part 9, among other authorities listed in the proposed policy.

Deanne B. Criswell,
Administrator, Federal Emergency Management Agency.

[FR Doc. 2023-21093 Filed 9-29-23; 8:45 am]

BILLING CODE 9111-66-P